ENVIRONMENTAL PROTECTION AGENCY

40 CFR Part 282

[EPA-R01-UST-2019-0421; FRL-10003-06-Region 1]

New Hampshire: Final Approval of State Underground Storage Tank Program Revisions, Codification, and Incorporation by Reference

AGENCY: Environmental Protection Agency (EPA).

ACTION: Direct final rule; correction.

SUMMARY: The Environmental Protection Agency (EPA) is correcting a direct final rule that appeared in the Federal Register on November 1, 2019. The document is taking direct final action to approve revisions to the State of New Hampshire's Underground Storage Tank (UST) program submitted by the New Hampshire Department of Environmental Services (NHDES). This action also codifies EPA's approval of New Hampshire's state program and incorporates by reference those provisions of the State regulations that meet the requirements for approval.

DATES: This rule is effective December 31, 2019, unless EPA received adverse comment by December 2, 2019. If EPA received adverse comments, it will publish a timely withdrawal in the Federal Register informing the public that the rule will not take effect. The incorporation by reference of certain publications listed in the regulations is approved by the Director of the Federal Register, as of December 31, 2019, in accordance with 5 U.S.C. 552(a) and 1 CFR part 51.

FOR FURTHER INFORMATION CONTACT: Susan Hanamoto, RCRA Waste Management, UST, and Pesticides Section; Land, Chemicals, and Redevelopment Division; EPA Region 1, 5 Post Office Square, Suite 100, (Mail Code 07-1), Boston, MA 02109-3912.

SUPPLEMENTARY INFORMATION: In FR Doc. 2019-23709 appearing on pages 58627 and 58631 in the Federal Register of Friday, November 1, 2019, the following corrections are made:

1. On page 58627, in the heading of the document, the agency heading is corrected to read “ENVIRONMENTAL PROTECTION AGENCY” and in the AGENCY caption, the agency is corrected to read “Environmental Protection Agency (EPA)”.

2. On page 58627, in the first sentence of the SUMMARY, “Environmental Services Agency” is corrected to read “Environmental Protection Agency”.

3. On page 58631, middle column, in the List of Subjects in 40 CFR part 282, “Environmental Services” is corrected to read “Environmental Protection”.

Dated: November 5, 2019.
Nancy Barmakian,
Acting Director of Land, Chemicals, and Redevelopment Division.

[FR Doc. 2019-26690 Filed 12-18-19; 8:45 am]

BILLING CODE 6560-50-P